DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by Century Mining, LLC.

DATES: All comments on the petition must be received by MSHA's Office of Standards, Regulations, and Variances on or before October 15, 2025.

ADDRESSES: You may submit comments identified by Docket No. MSHA-2025-0323 by any of the following methods:

1. Federal eRulemaking Portal: https://www.regulations.gov. Follow the instructions for submitting comments for MSHA-2025-0323.

2. Fax: 202-693-9441.

3. Email: petitioncomments@dol.gov.

4. Regular Mail or Hand Delivery: MSHA, Office of Standards, Regulations, and Variances, Room C3522, 200 Constitution Ave. NW, Washington, DC 20210.

Attention: Jessica D. Senk, Acting Director, Office of Standards, Regulations, and Variances. Individuals may inspect copies of the petition and comments during normal business hours at the address listed above. Before visiting MSHA in person, call 202-693-9440 to make an appointment.

FOR FURTHER INFORMATION CONTACT: Jessica D. Senk, Office of Standards, Regulations, and Variances at 202-693-9440 (voice), Petitionsformodification@dol.gov (email), or 202-693-9441 (fax). These are not toll-free numbers.

SUPPLEMENTARY INFORMATION: Section 101(c) of the Federal Mine Safety and Health Act of 1977 and Title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2025-054-C.

Petitioner: Century Mining, LLC, 7004 Buckhannon Road, Volga, WV 26238.

Mine: Longview Mine, MSHA ID No. 46-09447, located in Barbour County, West Virginia.

Regulation Affected: 30 CFR 75.500(d), Permissible electric equipment.

Modification Request: The petitioner requests a modification of the existing standard, 30 CFR 75.500(d), as it relates to the use of an alternative method of respirable dust protection at the Longview Mine. Specifically, the petitioner is applying to use the battery powered respirable protection unit 3M Versaflo TR-800 in or inby the last open crosscut as an alternative to the now discontinued 3M Airstream.

The petitioner states that:

(a) The petitioner is seeking an alternative to the 3M Airstream helmet to provide miners with respirable protection against coal mine dust, a protection that can provide long-term health benefits.

(b) The 3M Airstream helmet has been used in mines for over 40 years. 3M has recently faced component disruptions for the Airstream product. This has caused 3M to discontinue, globally, the Airstream on June 1, 2020. The ability to order an Airstream system and components ended in February 2020 and components were available through June 2020.

(c) Currently, there are not any available replacement PAPRs (positive pressure air-purifying respirators) that meet the MSHA standard for permissibility.

(d) PAPRs provide a constant flow of filtered air, which offers respiratory protection and comfort in hot working environments.

(e) Operators that were using the Airstream do not have an alternative to provide this type of protection to its miners.

(f) 3M Versaflo TR-800:

(1) The TR-800 is a PAPR blower with battery rated at Division I for Classes I, II, and III under the most current UL standard (UL 60079, 6th Edition, 2013); NIOSH-approved PAPR system. The 3M Versaflo Powered Air Purifying Respirator TR-800 Motor/Blower, with the 3M Battery Pack TR-830 attached, has been tested and classified for intrinsic safety in Hazardous Locations (Exia) by Underwriters Laboratory (UL) for the following: Exia Division 1: IS Class I, II, III; Division 1 (Includes Division 2), Groups C, D, E, F, G; T4; Ex ia I Ma; Class I, Zone 0, AEx ia IIB, T4; Class I, Zone 0, Ex ia IIB, T4; Zone 20, AEx ia IIIC, T135; Zone 20, Ex ia IIIC, T135; −20 °C ≤ Ta ≤ 55 °C.

(g) This unit is not MSHA approved, and the manufacturer is not pursuing approval. The standards for the approval of this respirator are an accepted alternative to MSHA's standards and provide the same level of protection.

The petitioner proposes the following alternative method:

(a) Affected mine employees will be trained in the proper use and maintenance of the PAPR in accordance with the established manufacturer guidelines. In addition to manufacturer guidelines, it will be required that mine employees be trained to inspect the unit before each use to determine if there is any damage or defects to the unit that would negatively impact intrinsic safety. This inspection shall include all associated wiring and connections and shall take place prior to the equipment being taken underground.

(b) If, during the inspection, it is determined that there is damage that may negatively impact the intrinsic safety, the PAPR will be immediately removed from service.

(c) The PAPR user shall conduct daily examinations of the filter and replace as needed.

(d) When fitting a new filter on the PAPR, the manufacturer's instructions will be followed.

(e) PAPR units will not be charged underground.

(f) A qualified person under 30 CFR 75.151 will monitor for methane as is required by the standard in the affected areas of the mine.

(g) All requirements of 30 CFR 75.323 shall be complied with. The PAPR shall not be used if methane is detected in concentrations at or above 1.0 percent methane. When 1.0 percent or more methane is detected while the PAPR is being used, the equipment shall be de-energized immediately. When 1.5 percent or more methane is detected, the PAPR shall be withdrawn from the affected area outby the last open crosscut.

(h) Employees will be trained on how to properly use and take care of the PAPR according to manufacturer guidelines as well as all stipulations as related to the Proposed Decision and Order (PDO) granted by MSHA. Qualified miners will receive training regarding the information in the PDO granted by MSHA before using equipment in the relevant part of the mine. A record of the training will be kept and available upon request. Within 60 days of the PDO granted by MSHA becoming finalized, the petitioner will submit proposed revisions to 30 CFR 75.370, mine ventilation, to be approved under the 30 CFR part 48 training plan by the Coal Mine Safety and Health District Manager. The revisions will specify initial and refresher training and when the training is conducted, an MSHA Certificate of Training (Form 5000-23) will be completed. Comments will be made on the certificate to note non-permissible testing equipment training.

There are no representatives of miners at Century Mining, LLC, Longview Mine. A copy of this petition has been posted on the bulletin board as of August 28, 2025.

In support of the proposed alternative method, the petitioner has also submitted specification tables for the 3M Versaflo TR-800 PAPR.

The petitioner asserts that the alternative method will guarantee no less than the same measure of protection afforded the miners under the mandatory standard.

Jessica D. Senk,
Acting Director, Office of Standards, Regulations, and Variances.

[FR Doc. 2025-17705 Filed 9-12-25; 8:45 am]

BILLING CODE 4520-43-P